DEPARTMENT OF ENERGY

Federal Energy Regulatory Commission

[Docket No. CP02-87-000]

ANR Pipeline Company; Notice of Application

February 25, 2002.

Take notice that on February 15, 2002, ANR Pipeline Company (ANR), 9 E Greenway Plaza, Houston, Texas 77046, filed in Docket No. CP02-87-000, an application requesting authorization to modify certain compressor units at its Woodstock Compressor Station (Woodstock Station) in McHenry County, Illinois, pursuant to sSection 7(b) and 7(c) of the Natural Gas Act (NGA), as amended, and part 157 of the Commission's rules and regulations, all as more fully set forth in the application which is on file with the Commission and open to public inspection. Copies of this filing are on file with the Commission and are available for public inspection. This filing may also be viewed on the web at http://www.ferc.gov using the “RIMS” link, select “Docket #” and follow the instructions (call 202-208-2222 for assistance.

Specifically, ANR states that it proposes to abandon in place five compressor units (total 6,000 horsepower) at its Woodstock Station, and to uprate the horsepower of two existing units by a total of 7,068 horsepower, thereby maintaining its existing pipeline system capacity. ANR states that the purpose of this activity is to enhance ANR's ability to meet air emissions restrictions by reducing station emissions associated with the antiquated design and the age of the engines and to reduce maintenance capital costs. ANR states that the estimated cost of uprating the compressor units is $76,000.

Any questions concerning this application may be directed to Dawn McGuire, Attorney, ANR Pipeline Company, 9 E Greenway Plaza, Houston, Texas 77046 , call (832) 676-5503, fax (832) 676-2251.

There are two ways to become involved in the Commission's review of this project. First, any person wishing to obtain legal status by becoming a party to the proceedings for this project should, on or before March 18, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-4906 Filed 2-27-02; 8:45 am]

BILLING CODE 6717-01-P